DEPARTMENT OF STATE

[Public Notice: 5305]

Defense Trade Advisory Group; Notice of Membership

AGENCY: Department of State.

ACTION: Notice.

SUMMARY: The U.S. Department of State's Bureau of Political-Military Affairs is accepting membership applications for the Defense Trade Advisory Group (DTAG).

DATE: The Bureau will accept applications for two weeks from the effective date of this notice.

FOR FURTHER INFORMATION CONTACT: Mary F. Sweeney, Office of Defense Trade Controls Management, Directorate of Defense Trade Controls, Bureau of Political-Military Affairs, Department of State, (202) 663-2865.

SUPPLEMENTARY INFORMATION: The DTAG was established as a continuing committee under the authority of 22 U.S.C. 2656 and the Federal Advisory Committee Act, 5 U.S.C. App. I et seq. (“FACA”).

The purpose of the DTAG is to provide the Bureau of Political-Military Affairs with a formal channel for regular consultation and coordination with U.S. private sector defense exporters and defense trade specialists on issues involving U.S. laws, policies, and regulations for munitions exports. The DTAG advises the Bureau on its support for and regulation of defense trade to help ensure that impediments to legitimate exports are reduced while the foreign policy and national security interests of the U.S. continue to be protected and advanced in accordance with the Arms Export Control Act (AECA), as amended. Major topics addressed by the DTAG include (a) Policy issues on commercial defense trade and technology transfer; (b) regulatory and licensing procedures applicable to defense articles, services, and technical data; (c) technical issues involving the U.S. Munitions List (USML); and (d) questions relating to actions designed to carry out the AECA and International Traffic in Arms Regulations (ITAR).

Members are appointed by the Assistant Secretary of State for Political-Military Affairs for the purpose of obtaining, from the point of view and perspective of industry and other non-governmental interest groups and stakeholders, substantive and technical expertise on defense trade and related issues. As such, DTAG members are drawn from a representative cross-section of U.S. defense industry, association, academic, and foundation personnel, including appropriate technical and military experts. All DTAG members shall be aware of the Department of State's mandate that arms transfers must further U.S. national security and foreign policy interests. DTAG members also shall be versed in the complexity of commercial defense trade and industrial competitiveness, and all members must be able to advise the Bureau on these matters. Further, DTAG members are expected to use their expertise and provide candid advice, national security and foreign policy interests of the U.S. shall be the basis for all policy and technical recommendations.

DTAG members' responsibilities include:

• Service for a consecutive two-year term that may be renewed or terminated at the discretion of the Assistant Secretary of State for Political-Military Affairs (Membership shall automatically terminate for members who fail to attend three consecutive DTAG plenary meetings, which ideally are held bi-annually).

• Making recommendations in accordance with the DTAG Charter and the FACA.

• Making policy and technical recommendations within the scope of the U.S. commercial export control regime as mandated in the AECA, the ITAR, and appropriate directives.

Please note that DTAG members may not be reimbursed for travel, per diem, and other expenses incurred in connection with their duties as DTAG members.

How to apply: Applications in response to this notice must contain the following information: (1) Name of applicant; (2) affirmation of U.S. citizenship; (3) organizational affiliation and title, as appropriate; (4) mailing address; (5) work telephone number; (6) e-mail address; (7) resume; (8) summary of qualifications for DTAG membership. While a current security clearance is not mandatory for appointment, the ability to obtain and maintain a security clearance may be taken into account and will determine an appointee's access to some DTAG functions and activities (e.g., disclosure to classified information, “closed” meetings, etc.).This information may be provided via two methods:

(1) E-mailed to the following address: SweeneyMF@state.gov. In the subject field, please write, “DTAG Application”; or (2) Sent in hardcopy to the following address: Mary F. Sweeney, PM/DTCM, SA-1, 12th Floor, Directorate of Defense Trade Controls, Bureau of Political Military Affairs, U.S. Department of State, Washington, DC 20522-0112.

All applications must be postmarked by the fourteenth day from the effective date of this notice. Also, current DTAG members need not submit an application package in order to be considered for membership in 2006-2008.

Dated: February 8, 2006.
Michael T. Dixon,
Designated Federal Official, Defense Trade Advisory Group,Department of State.

[FR Doc. E6-2145 Filed 2-14-06; 8:45 am]

BILLING CODE 4710-25-P